DEPARTMENT OF JUSTICE

Drug Enforcement Administration

[Docket No. 14-17]

Chung-Kuang Chen, M.D.; Dismissal of Proceeding

On June 20, 2014, the Deputy Assistant Administrator, Office of Diversion Control, Drug Enforcement Administration, issued an Order to Show Cause to Chung-Kuang Chen, M.D. (Respondent), of Chicago, Illinois. The Show Cause Order proposed the denial of Respondent's application for a DEA Certificate of Registration as a practitioner, based, inter alia, on the ground that on June 10, 2013, the Illinois Department of Financial and Professional Regulation had indefinitely suspended Respondent's Illinois Controlled Substance license, and therefore, he is not entitled to hold a registration under the Controlled Substances Act. GX 1.

Respondent initially requested a hearing and the matter was placed on the docket of the Office of Administrative Law Judges. The Government moved for summary disposition, after which Respondent sought to withdraw his application. See 21 CFR 1301.16(a). Thereafter, the ALJ terminated the proceeding, and on September 10, 2014, the Government filed a Request for Final Agency Action with this Office. Therein, the Government noted that it was requesting the issuance of a Final Order in the event Respondent “is not allowed to withdraw his pending application” but that if his request to withdraw is granted, that “would end this matter.” Request for Final Agency Action, at 1. The Government further represented that it had forwarded Respondent's withdrawal request to the Office of Diversion Control.

When, as of August 13, 2015, this Office had not been notified as to whether Respondent's withdrawal request had either been granted or denied, I ordered that Respondent's withdrawal request be ruled on no later than 10 days from the date of the Order. Order of the Administrator (Aug. 13, 2015). Thereafter, on September 4, 2015, the Government moved to dismiss the proceeding, explaining that on September 2, 2015, the Deputy Assistant Administrator granted Respondent's withdrawal request, based on Respondent's decision to retire from the practice of medicine. Gov. Mot. to Dismiss the Order to Show Cause, at 2-3.

Having considered the Government's motion, I grant the Government's motion and will dismiss the Order to Show Cause.

Order

Pursuant to the authority vested in me by 21 U.S.C. 823(f) and 28 CFR 0.100(b), I order that the Order to Show Cause issued to Chung-Kuang Chen, M.D., be, and it hereby is, dismissed. This Order is effective immediately.

Dated: September 15, 2015.
Chuck Rosenberg,
Acting Administrator.

[FR Doc. 2015-23599 Filed 9-18-15; 8:45 am]

BILLING CODE 4410-09-P